DEPARTMENT OF TRANSPORTATION

Federal Railroad Administration

[Docket No. FRA-2023-0002-N-38]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before February 26, 2024.

ADDRESSES: Written comments and recommendations for the proposed ICR should be submitted on regulations.gov to the docket, Docket No. FRA-2023-0002. All comments received will be posted without change to the docket, including any personal information provided. Please refer to the assigned OMB control number (2130-0597) in any correspondence submitted. FRA will summarize comments received in a subsequent 30-day notice and include them in its information collection submission to OMB for approval.

FOR FURTHER INFORMATION CONTACT: Ms. Arlette Mussington, Information Collection Clearance Officer, at email: arlette.mussington@dot.gov or telephone: (571) 609-1285, or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Training, Qualification, and Oversight for Safety-Related Railroad Employees.

OMB Control Number: 2130-0597.

Abstract: The regulations under 49 CFR part 243 set forth FRA's minimum training and qualification requirements for each category and subcategory of safety-related railroad employee, regardless of whether the employee is employed by a railroad or a contractor of the railroad. In 2014, FRA published a final rule establishing minimum training standards for all safety-related railroad employees, as required by the Rail Safety Improvement Act (RSIA) of 2008.¹ The final rule required each railroad or contractor that employs one or more safety-related employees to develop and submit a training program to FRA for approval and to designate the minimum training qualifications for each occupational category of employee. Additionally, the rule required most employers to conduct periodic oversight of their own employees and annual written reviews of their training programs to close performance gaps.²

¹ Public Law 110-432, 122 Stat. 4883 (Oct. 16, 2008), codified at 49 U.S.C. 20162.

² 79 FR 66459.

FRA will use the information collected to ensure each employer—railroad or contractor—conducting operations subject to 49 CFR part 243 develops, adopts, submits, and complies with a training program for each category and subcategory of safety-related railroad employee. Each program must have training components identified so that FRA will understand how the program works when it reviews the program for approval. Further, FRA will review the required training programs to ensure they include initial, ongoing, and on-the-job criteria; testing and skills evaluation measures designed to foster continual compliance with Federal standards; and the identification of critical safety defects and plans for immediate remedial actions to correct them. In 2020, FRA developed requirements for a training program under § 243.101 for each Class I railroad, and each intercity or commuter passenger railroad conducting operations with 400,000 or more total annual employee work hours.

In this 60-day notice, FRA makes adjustments that will reduce the currently approved burden hours from 91,069 to 66,565 hours. The decrease, after a thorough review, is the result of a reduced estimate of annual responses for the number of training programs under § 243.103.

Type of Request: Extension without change (with changes in estimates) of a currently approved collection.

Affected Public: Businesses.

Form(s): N/A.

Respondent Universe: 1,155 railroads/contractors/training organizations/learning institutions.

Frequency of Submission: On occasion.

Total Estimated Annual Responses: 164,275.

Reporting Burden
CFR section | Respondent universe | Total annual responses | Average time per response | Total annual burden hours | Wage rates | Total cost equivalent in U.S. dollars
|  | (A) | (B) | (C = A * B) |  | (D = C * wage rates) ³
243.101(a)(2)—Training program required for each employer not covered by (a)(1) and subject to this part by May 1, 2021 | 1,046 railroads/contractors | 200 training programs | 250 hours | 50,000.00 | $85.93 | $4,296,500.00
—(b) Submission by new employers commencing operations after Jan. 1, 2020, not covered by (a)(2) | 10 new railroads/contractors | 10 training programs | 20 hours | 200.00 | 123.41 | 24,682.00
—(e) Contractor's duty to validate approved program to a railroad (Revised requirement) | 400 railroad contractors | 150 documents | 15 minutes | 37.50 | 85.93 | 3,222.38
—(f) Railroad's duty to retain copies of contractor's validation documents (Revised requirement) | 1,046 railroads/contractors | 1,046 copies | 2 minutes | 34.87 | 85.93 | 2,996.38
243.103(d)—Training components identified in program; modifications to components of the training programs | 1,155 railroads/contractors | 10 modified training programs | 5 hours | 50.00 | 85.93 | 4,296.50
243.109(b)—Previously approved programs requiring an informational filing when modified | 155 railroads/contractors/learning institutions | 75 informational filings | 8 hours | 600.00 | 85.93 | 51,558.00
—(c) New portions or substantial revisions to an approved training program | 10 railroads/contractors | 10 revised training programs | 16 hours | 160.00 | 85.93 | 13,748.80
—(c) New portions or substantial revisions to an approved training program found non-conforming to this part by FRA—revisions required | 50 railroads/contractors | 50 revised training programs | 8 hours | 400.00 | 85.93 | 34,372.00
—(d)(1)(i) Copy of additional submissions, resubmissions, and informational filings to labor organization presidents | 50 railroads/contractors | 50 copies | 10 minutes | 8.33 | 85.93 | 715.80
—(d)(1)(ii) Railroad statement affirming that a copy of submissions, resubmissions, or informational filings has been served to labor organization presidents | 228 railroads/contractors | 76 affirming statements | 10 minutes | 12.67 | 85.93 | 1,088.73
—(d)(2) Labor comments on railroad training program submissions, resubmissions, or informational filings | 228 railroad labor organizations | 3 comments | 30 minutes | 1.50 | 85.93 | 128.90
243.111(g)—Safety-related railroad employees instructed by training organizations or learning institution—recordkeeping | 109 training organizations/learning institutions | 5,450 records | 5 minutes | 454.17 | 85.93 | 39,026.83
—(h) Training organizations or learning institutions to provide student's training transcript or training record to any employer upon request by the student | 109 training organizations/learning institutions | 545 records | 5 minutes | 45.42 | 85.93 | 3,902.94
—(b) New employers operating after January 1, 2020, not covered by (a)(2), designation of safety-related employees by job category—lists | 10 new railroads/contractors | 10 designation lists | 15 minutes | 2.50 | 85.93 | 214.83
—(c) Training records of newly hired employees or those assigned new safety-related duties | 4,800 employees | 4,800 records | 15 minutes | 1,200.00 | 85.93 | 103,116.00
—(d)(1)(i) Requests for relevant qualification or training record from an entity other than current employer | 4,800 employees | 250 record requests | 5 minutes | 20.83 | 85.93 | 1,789.92
243.203—(a)-(e) Recordkeeping—Systems set up to meet FRA requirements—general requirements for qualification status records, accessibility | 10 railroads/ contractors/training organizations/learning institutions | 10 recordkeeping systems | 30 minutes | 5.00 | 85.93 | 429.65
—(f) Transfer of records to successor employer—If an employer ceases to do business and its assets will be transferred to a successor employer, it shall transfer to the successor employer all records required to be maintained under this part, and the successor employer shall retain them for the remainder of the period prescribed in this part | 1,155 railroads/contractors/training organizations/learning institutions | 3 railroads | 30 minutes | 1.50 | 85.93 | 128.90
243.205(c)—Railroad identification of supervisory employees who conduct periodic oversight tests by category/subcategory | 746 railroads | 300 identifications | 5 minutes | 24.90 | 85.93 | 2,139.66
—(f) Notification by RR of contractor employee non-compliance with federal laws/regulations/orders to employee and employee's employer | 300 contractors | 90 employee notices | 10 minutes | 15.00 | 85.93 | 1,288.95
—(f) Notification by RR of contractor employee non-compliance with federal laws/regulations/orders to employee and employee's employer | 300 contractors | 270 employer notices | 10 minutes | 45.00 | 85.93 | 3,866.85
—(i) and (j) Employer records of periodic oversight | 1,046 railroads/contractors | 150,000 records | 5 minutes | 12,500.00 | 85.93 | 1,074,125.00
243.207(a)—Written annual review of safety data (Railroads with 400,000 annual employee work hours or more) | 22 railroads | 22 reviews | 16 hours | 352.00 | 85.93 | 30,247.36
—(b) Railroad copy of written annual review at system headquarters | 22 railroads | 22 review copies | 5 minutes | 1.83 | 85.93 | 157.25
—(e) Railroad notification to contractor of relevant training program adjustments | 22 railroads | 2 notifications | 15 minutes | 0.50 | 85.93 | 42.97
243.209(a)-(b)—Railroad-maintained list of contractors utilized | 746 railroads | 746 lists | 30 minutes | 373.00 | 85.93 | 32,051.89
—(c) Railroad duty to update list of contractors utilized and retain record for at least 3 years showing if a contractor was utilized in last 3 years | 746 railroads | 75 updated lists | 15 minutes | 18.75 | 85.93 | 1,611.19
Total ⁴ | 1,155 railroads/contractors/training organizations/learning institutions | 164,275 responses | N/A | 66,565 |  | 5,727,450

Total Estimated Annual Responses: 164,275.

Total Estimated Annual Burden: 66,565.

Total Estimated Annual Burden Hour Dollar Cost Equivalent: $5,727,450.

FRA informs all interested parties that it may not conduct or sponsor, and a respondent is not required to respond to, a collection of information that does not display a currently valid OMB control number.

³ Throughout the tables in this document, the dollar equivalent cost is derived from the 2022 Surface Transportation Board Full Year Wage A & B data series using the appropriate employee group to calculate the average hourly rate that includes 75 percent overhead.

⁴ Totals may not add up due to rounding.

Authority: 44 U.S.C. 3501-3520.

Allison Ishihara Fultz,
Chief Counsel.

[FR Doc. 2023-28380 Filed 12-22-23; 8:45 am]

BILLING CODE 4910-06-P